DEPARTMENT OF THE INTERIOR

Bureau of Ocean Energy Management

[Docket No. BOEM-2020-0018]

Outer Continental Shelf, Alaska Region, Cook Inlet, Proposed Oil and Gas Lease Sale 258

AGENCY: Bureau of Ocean Energy Management, Interior.

ACTION: Call for information and nominations.

SUMMARY: The Bureau of Ocean Energy Management (BOEM) is issuing this Call for Information and Nominations (Call) for proposed Lease Sale 258 in the Cook Inlet Planning Area in 2021, as included in the current 2017-2022 Outer Continental Shelf (OCS) Oil and Gas Leasing Program (2017-2022 Program) that BOEM published on November 18, 2016. The purpose of this Call is to solicit industry nominations for areas of leasing interest, including nominations or indications of interest in specific blocks within the Call Area. BOEM will also use the Call to gather comments and information for consideration in planning for this proposed OCS oil and gas lease sale. Given the long lead time needed to prepare for a lease sale, BOEM is beginning the planning process for this potential sale at this time. However, this Call is not a decision to hold a lease sale in the Cook Inlet Planning Area, but to evaluate the area described herein for potential oil and gas leasing.

DATES: All nominations and comments submitted in response to this Call must be received by BOEM no later than October 13, 2020. BOEM will consider submissions sent by mail so long as they are postmarked by the last day of the comment period.

ADDRESSES: Public Comment Submission Procedures: All public comments should be submitted through one of the following methods:

1. Federal eRulemaking Portal: http://www.regulations.gov. In the field entitled, “Search,” enter “BOEM-2020-0018” and then click “Search.” Follow the instructions to submit public comments and view supporting and related materials available for this notice;

2. U.S. Postal Service or other delivery service to the following address: Chief, Leasing Section, BOEM, Alaska Region, 3801 Centerpoint Drive, Suite 500, Anchorage, Alaska 99503-5823. Send your comments in an envelope clearly labelled, “Comments on the Call for Information and Nominations for Proposed Lease Sale 258 in the Cook Inlet Planning Area.”

Nominations/Indications of Industry Interest Submission Procedures: To ensure security and confidentiality of proprietary information to the maximum extent possible, please send nominations/indications of interest and other proprietary information to Chief, Leasing Section, BOEM, Alaska Region, 3801 Centerpoint Drive, Suite 500, Anchorage, Alaska 99503-5823. Send your nominations in an envelope clearly labeled, “Nominations for Proposed Lease Sale 258 in the Cook Inlet Planning Area.”

FOR FURTHER INFORMATION CONTACT: Patricia LaFramboise, Regional Supervisor, Leasing and Plans, Bureau of Ocean Energy Management, Alaska Region, 3801 Centerpoint Drive, Suite 500, Anchorage, AK 99503-5823, telephone (907) 334-5200.

SUPPLEMENTARY INFORMATION:

2017-2022 OCS Oil and Gas Leasing Program: The Secretary of the Interior signed the “Record of Decision (ROD) and Approval of the 2017-2022 OCS Oil and Gas Leasing Program” on January 17, 2017, and the 2017-2022 Program became effective on July 1, 2017. Information on the development of the 2017-2022 Program, PEIS, and ROD is available on BOEM's website at: http://www.boem.gov/Five-Year-Program-2017-2022/.

During development of the 2017-2022 Program, BOEM analyzed three options for the Cook Inlet Program Area: (1) Targeted Leasing, (2) Beluga Whale Critical Habitat Exclusion, and (3) the No Sale Option. In the ROD, the Secretary chose the Targeted Leasing Option for the proposed Cook Inlet Lease Sale 258. Under the Targeted Leasing process, BOEM uses scientific information and stakeholder feedback to determine which specific areas offer the greatest resource potential, while minimizing potential conflicts with environmental values, subsistence uses, and other uses.

Environmental Review Process: BOEM intends to prepare an Environmental Impact Statement (EIS), in accordance with the National Environmental Policy Act (NEPA), covering the proposed lease sale described in this Call. BOEM is publishing, concurrently with this Call, a NOI to prepare an EIS. The lease sale EIS will evaluate the potential effects of leasing on the human, marine, and coastal environments, and through this process BOEM may develop measures and lease stipulations to mitigate adverse impacts for the options being analyzed. Several consultations will be conducted concurrently with the NEPA process. These consultations include, but are not limited to, those required by the Endangered Species Act, the Magnuson-Stevens Fishery Conservation and Management Act, Section 106 of the National Historic Preservation Act, and Executive Order 13175—“Consultation and Coordination with Tribal Governments.” These consultations will assist BOEM in its leasing decisions.

BOEM's Leasing Process: BOEM's regulations for planning and holding an oil and gas lease sale are found at 30 CFR 556.300-309.

(1) Call for Information and Nominations: See section below.

(2) Area Identification: Based on the information and nominations submitted in response to this Call, BOEM will develop a recommendation of the area proposed for further leasing consideration and environmental analysis. Upon approval by the Secretary, BOEM will announce the proposed area identified for leasing in the Federal Register, in accordance with 30 CFR 556.302(a)(3).

(3) Proposed Notice of Sale (NOS): If BOEM proceeds with consideration of leasing after completion of Area Identification and environmental analysis, it will publish a Notice of Availability of a Proposed NOS in the Federal Register and send the Proposed NOS to the Governor of Alaska for comment and recommendations on the size, timing, and location of the proposed sale. The Proposed NOS describes the size, timing, and location of the proposed sale, and provides additional information on the area(s) proposed for leasing, proposed lease terms and conditions of the sale, and proposed stipulations to mitigate potential adverse impacts on the environment.

(4) Final Notice of Sale (NOS): If BOEM decides to proceed with leasing, it will publish a Final NOS in the Federal Register at least 30 days before the date of the lease sale. The Final NOS describes the place, time, and method for filing bids and the place, date, and hour for opening and publicly announcing bids. It also contains a description of the area(s) offered for lease, the lease terms and conditions of the sale, and stipulations to mitigate potential adverse impacts on the environment.

Call for Information and Nominations

1. Authority

This Call is published pursuant to the Outer Continental Shelf Lands Act (OCSLA), as amended (43 U.S.C. 1331-1356), and the implementing regulation at 30 CFR 556.301.

2. Purpose of the Call

The purpose of this Call is to solicit industry nominations for areas of leasing interest and to gather comments and information from the public on the area(s) being considered for the proposed OCS oil and gas lease sale in the Cook Inlet Planning Area in 2021. Pursuant to 30 CFR 556.301, BOEM seeks comments from industry and the public on:

(a) Industry interest in the area proposed for leasing, including nominations or indications of interest in specific blocks within the area;

(b) geological conditions, including bottom hazards;

(c) archaeological sites on the seabed or near shore;

(d) potential multiple uses of the proposed leasing area, including subsistence and navigation;

(e) areas that should receive special concern and analysis; and

(f) other socioeconomic, biological, and environmental information.

Information submitted in response to this Call will be used to:

• Inform the Area Identification process under 30 CFR 556.302;

• Prioritize areas with potential for oil and gas development;

• Develop potential lease terms and conditions;

• Identify potential use conflicts and potential mitigation measures; and

• Assist in BOEM's planning and environmental review process.

3. Description of the Call Area

The 2017-2022 Program includes one proposed lease sale in the northern portion of the Cook Inlet Planning Area. This area identified for potential leasing represents approximately 20% of the total Cook Inlet Planning Area. It is located offshore the State of Alaska, extending from the 3-nautical mile (5.6 kilometers) seaward limit of State of Alaska submerged lands, roughly from Kalgin Island in the north to Augustine Island in the south. The Call Area consists of 224 OCS blocks covering about 1.09 million acres (442,875 hectares).

A map depicting the Call Area is available for download on the BOEM website at: http://www.boem.gov/ak258. Copies of Official Protraction Diagrams (OPDs) also are available for download on the BOEM website at: https://www.boem.gov/Maps-and-GIS-Data/.

4. Instructions on the Call

BOEM requests that parties interested in leasing indicate their interest in, and comment on, the acreage within the boundaries of the Call Area that they wish to have included in the proposed lease sale. Respondents should explicitly outline the areas of interest along block lines and rank the areas or specific blocks in which they are interested, according to their priority, using the following indicators: 1 [high], 2 [medium], or 3 [low]. Respondents are encouraged to be as specific as possible in prioritizing blocks and supporting nominations of specific blocks with detailed information, such as relevant geologic, geophysical, and economic data. Areas where interest has been indicated, but on which respondents have not indicated priorities, will be considered low priority. Respondents may also submit a list of blocks nominated by OPD and Leasing Map designations to ensure correct interpretation of their nominations. OPDs and Leasing Maps are available on BOEM's website at https://www.boem.gov/Maps-and-GIS-Data/.

BOEM also seeks comments from all interested parties about particular geological, environmental, biological, archaeological and socioeconomic conditions, use conflicts, or other information about conditions that could affect the potential leasing and development of particular areas. Comments may refer to broad areas or may refer to particular OCS blocks.

5. Protection of Privileged or Proprietary Information

BOEM will protect privileged or proprietary information, which industry submits, in accordance with the Freedom of Information Act (FOIA) and OCSLA requirements. To avoid inadvertent release of such information, all documents and every page containing such information should be marked with “Confidential—Contains Proprietary Information.” To the extent a document contains a mix of proprietary and nonproprietary information, the document should be clearly marked to indicate which portion of the document is proprietary and which is not. Exemption 4 of FOIA applies to trade secrets and commercial or financial information that you submit that is privileged or confidential. The OCSLA states that the “Secretary shall maintain the confidentiality of all privileged or proprietary data or information for such period of time as is provided for in this [Act], established by regulation, or agreed to by the parties” (43 U.S.C. 1344(g)). BOEM considers nominations of specific blocks to be proprietary, and therefore BOEM will not release information that identifies any particular nomination with any particular party, so as not to compromise the competitive position of any participants in the process of indicating interest.

However, please be aware that BOEM's practice is to make all comments, including the names and addresses of individuals, available for public inspection. Before including your address, phone number, email address, or other personal identifying information in your comment, please be advised that your entire comment, including your personal identifying information, may be made publicly available at any time. In order for BOEM to withhold from disclosure your personal identifying information, you must identify any information contained in the submission of your comments that, if released, would constitute a clearly unwarranted invasion of your personal privacy. You must also briefly describe any possible harmful consequence(s) of the disclosure of information, such as embarrassment, injury or other harm. While you can ask us in your comment to withhold from public review your personal identifying information, we cannot guarantee that we will be able to do so. BOEM will make available for public inspection, all comments submitted, with the exceptions just noted, by organizations and businesses, or by individuals identifying themselves as representatives of organizations or businesses.

Walter D. Cruickshank,
Acting Director, Bureau of Ocean Energy Management.

[FR Doc. 2020-20032 Filed 9-9-20; 8:45 am]

BILLING CODE 4310-MR-P